DEPARTMENT OF LABOR

Employment and Training Administration

[TA-W-51,848]

WSW Company of Sharon, Inc., a Subsidiary of Wormser Company, Rebel Screeners, Inc., Sharon, TN; Amended Certification Regarding Eligibility To Apply for Worker Adjustment Assistance

In accordance with section 223 of the Trade Act of 1974 (19 U.S.C. 2273) the Department of Labor issued a Certification of Eligibility to Apply for Worker Adjustment Assistance on June 30, 2003, applicable to workers of WSW Company of Sharon, Inc., a subsidiary of Wormser Co., Rebel Screeners, Inc., Sharon, Tennessee. The notice was published in the Federal Register on July 22, 2003 (68 FR 43373).

At the request of the State agency, the Department reviewed the certification for workers of the subject firm. The workers produce children's apparel and are not separately identifiable by product line.

New findings show that there was a previous certification, TA-W-39,088, issued on December 7, 2001, for workers of WSW Company of Sharon, Inc., Sharon, Tennessee who were engaged in employment related to the production of children's apparel. That certification expired December 7, 2003. To avoid an overlap in worker group coverage, the certification is being amended to change the impact date from May 12, 2002, to December 8, 2003, for workers of the subject firm.

The amended notice applicable to TA-W-51,848 is hereby issued as follows:

All workers of WSW Company of Sharon, Inc., a subsidiary of Wormser Company, Rebel Screeners, Inc., Sharon, Tennessee, who became totally or partially separated from employment on or after December 8, 2003, through June 30, 2005, are eligible to apply for adjustment assistance under section 223 of the Trade Act of 1974.

Signed at Washington, DC this 6th day of March, 2004.
Linda G. Poole,
Certifying Officer, Division of Trade Adjustment Assistance.

[FR Doc. 04-6551 Filed 3-23-04; 8:45 am]

BILLING CODE 4510-30-P